DEPARTMENT OF DEFENSE

Department of the Army

Notice of Intent To Prepare an Environmental Impact Statement and Initiate Section 106 Public Consultation Regarding Removal of the Confederate Memorial From Arlington National Cemetery

AGENCY: Department of the Army, DoD.

ACTION: Notice of intent (NOI); public meetings.

SUMMARY: The Department of the Army intends to prepare an Environmental Impact Statement (EIS) under the National Environmental Policy Act (NEPA) and to conduct the section 106 public consultation process under the National Historic Preservation Act (NHPA) to address potential environmental effects associated with the congressionally-mandated removal of the Confederate Memorial from Arlington National Cemetery (ANC). This notice initiates a 30-day public scoping period, during which the Army will solicit comments on the proposed action. The 30-day public scoping period will include a virtual public meeting.

DATES: Written scoping comments must be sent within 30 days of publication of this NOI in the Federal Register. Public comment under NEPA and the NHPA may be executed concurrently to optimize efficiency, transparency, and accountability. There will be a virtual public meeting covering both the NEPA and NHPA processes. This virtual public meeting will take place August 23, 2023. The meeting time and instructions on how to access the meeting will be publicly announced, including on the ANC web page.

ADDRESSES: Written comments may be sent by the following methods:

Website form located at: https://www.arlingtoncemetery.mil/About/Confederate-Memorial-Removal.

Mail: Ms. Renea Yates, Director, Office of Army Cemeteries, 1 Memorial Avenue, Arlington, VA 22211.

FOR FURTHER INFORMATION CONTACT: Ms. Renea Yates, Director, Office of Army Cemeteries, 1 Memorial Avenue, Arlington, VA 22211; email: anc-commemorative-works@army.mil; (877) 907-8585.

SUPPLEMENTARY INFORMATION: Congress directed the establishment of the Commission on the Naming of Items of the DoD that Commemorate the Confederate States of America or Any Person Who Served Voluntarily with the Confederate States of America (the Naming Commission) in section 370 of the William M. (Mac) Thornberry National Defense Authorization Act for Fiscal Year 2021 (FY21 NDAA). Regarding the Confederate Memorial, the Naming Commission recommended the following:

—“The statue atop . . . the monument should be removed. All bronze elements on the monument should be deconstructed, and removed, preferably leaving the granite base and foundation in place to minimize risk of inadvertent disturbance of graves.”

—“The work should be planned and coordinated with the Commission of Fine Arts and the Historical Review Commission to determine the best way to proceed with removal of the monument.”

—“The Department of [the] Army should consider the most cost-effective method of removal and disposal of the monument's elements in their planning.”

The FY21 NDAA, section 370(a), requires that “[n]ot later than three years after the date of the enactment of this Act, the Secretary of Defense shall implement the plan submitted by [the Naming Commission] and remove all names, symbols, displays, monuments, and paraphernalia that honor or commemorate the Confederate States of America . . . or any person who served voluntarily with the Confederate States of America from all assets of the Department of Defense.”

The purpose of the proposed action is to remove from ANC a monument that commemorates the Confederate States of America. The need for the proposed action is to comply with non-discretionary congressional direction. The removal of the Confederate Memorial must be conducted in a manner that ensures the safety of the people who work at and visit ANC and that protects surrounding graves and monuments. The entire process, including disposition, must occur according to applicable laws, policies, and regulations.

The EIS will look at the impacts of removal of the statue atop the monument, disassembly of the bronze elements, and disposition of both. The Army intends to leave the granite base and foundation in place. NEPA requires consideration of a no-action alternative as a baseline against which impacts of the proposed action can be analyzed. The no-action alternative—while serving as a baseline for analysis—will not be considered for implementation, as it would not comply with congressional direction.

The EIS will consider potential adverse impacts associated with the proposed action. The EIS will also contemplate measures that would avoid, minimize, or mitigate identified adverse impacts. The proposed action is expected to require review and approval by the Commission of Fine Arts and coordination with the National Capital Planning Commission. The decision-making process will include publication of a Draft EIS, a Final EIS, and a Record of Decision.

Federal, Tribal, state, and local agencies, along with members of the public, are invited to participate in the NEPA and NHPA processes. The NEPA scoping process will identify factors that will influence the NEPA analysis, including alternatives and mitigation. The EIS will address input provided during the August 23, 2023, meeting and the 30-day public scoping period, along with other information and analyses relevant to the proposed action.

The August 23, 2023 meeting will initiate the public consultation process required by the NHPA. The Army will seek input regarding alternatives that will avoid, minimize, or mitigate adverse effects of the monument's removal. In terms of the NHPA, the scoping process will provide the public with information about the undertaking and its effects on historic properties and will seek public comment and input in accordance with 36 CFR 800.2(d). Interested persons may submit written comments. Written comments must be sent within 30 days of publication of this NOI in the Federal Register.

A virtual public meeting will be held August 23, 2023. The meeting time and instructions on how to access the meeting will be publicly announced, including on the ANC web page. Pertinent materials, including all posters, fact sheets, and comment forms, will be made available online at: https://www.arlingtoncemetery.mil/About/Confederate-Memorial-Removal.

James W. Satterwhite Jr.,
U.S. Army Federal Register Liaison Officer.

[FR Doc. 2023-16639 Filed 8-3-23; 8:45 am]

BILLING CODE 3711-02-P